FEDERAL COMMUNICATIONS COMMISSION

47 CFR Parts 80 and 95

[WT Docket No. 14-36; FCC 16-119]

Marine Radio Equipment and Related Matters

AGENCY: Federal Communications Commission.

ACTION: Final rule; announcement of effective date.

SUMMARY: In this document, the Federal Communications Commission (Commission) announces that the Office of Management and Budget (OMB) has approved, for a period of three years, information collection requirements adopted in the Commission's Report and Order, FCC 16-119. This document is consistent with the Report and Order, which stated that the Commission would publish a document in the Federal Register announcing OMB approval and the effective date of the rules.

DATES: The rule amendments to 47 CFR 80.233, 80.1061, 95.1402 and 95.1403, published at 81 FR 90739, December 15, 2016, are effective on February 27, 2017.

FOR FURTHER INFORMATION CONTACT: Cathy Williams by email at Cathy.Williams@fcc.gov and telephone at (202) 418-2918.

SUPPLEMENTARY INFORMATION: This document announces that, on February 13, 2017, OMB approved information collection requirements contained in the Commission's Report and Order, FCC 16-119, published at 81 FR 90739. The OMB Control Number is 3060-1227. The Commission publishes this notice as an announcement of the effective date of those information collection requirements.

Synopsis

As required by the Paperwork Reduction Act of 1995 (44 U.S.C. 3507), the FCC is notifying the public that it received OMB approval on February 13, 2017, for the information collection requirements contained in 47 CFR 80.233, 80.1061, 95.1402, 95.1403, as amended in the Commission's Report and Order, FCC 16-119. Under 5 CFR part 1320, an agency may not conduct or sponsor a collection of information unless it displays a current, valid OMB Control Number. No person shall be subject to any penalty for failing to comply with a collection of information subject to the Paperwork Reduction Act that does not display a current, valid OMB Control Number. The OMB Control Number is 3060-1227.

The foregoing notice is required by the Paperwork Reduction Act of 1995, Public Law 104-13, October 1, 1995, and 44 U.S.C. 3507.

The total annual reporting burdens and costs for the respondents are as follows:

OMB Control Number: 3060-1227.

OMB Approval Date: February 13, 2017.

OMB Expiration Date: February 29, 2020.

Title: Sections 80.233, Technical Requirements for Automatic Identification System Search and Rescue Transmitter (AIS-SART) Equipment, 80.1061, Special requirements for 406.0-406.1 MHz EPIRB Stations, 95.1402, Special Requirements for 406 MHz PLBs and 95.1403, Special Requirements for Maritime Survivor Locating Devices.

Form Number: N/A.

Respondents: Business or other for-profit entities.

Number of Respondents and Responses: 80 respondents; 80 responses.

Estimated Time per Response: 1 hour.

Frequency of Response: Third party disclosure requirement and on-occasion reporting requirement.

Obligation to Respond: Required to obtain or retain benefits. The statutory authority for this collection of information is contained in 47 U.S.C. 154, 303 unless otherwise noted.

Total Annual Burden: 80 hours.

Total Annual Cost: No cost.

Nature and Extent of Confidentiality: There is no need for confidentiality with this collection of information.

Privacy Act Impact Assessment: No impact(s).

Needs and Uses: The information collections contained in these rule sections require manufacturers of certain emergency radio beacons to include supplemental information with their equipment certification application which are due to the information collection requirements which were adopted by the Federal Communications Commission in FCC 16-119 on August 30, 2016. Manufacturers of Automatic Identification System Search and Rescue Transmitters (AIS-SARTS), 406 MHz Emergency Position Indicating RadioBeacons (EPIRBs), and Maritime Survivor Locating Device (MSLDs) must provide a copy of letter from the U.S. Coast Guard stating their device satisfies technical requirements specified in the IEC 61097-17 technical standard for AIS-SARTs, or Radio Technical Commission for Maritime Services (RTCM) Standard 11000 for 406 MHz EPIRBs, or RTCM Standard 11901 for MSLDs. They must also provide a copy or the technical test data, and the instruction manual(s). For 406 MHz PLBs manufacturers must include documentation from COSPAS/SARSAT recognized test facility that the PLB satisfies the technical requirements specified in COSPAS-SARSAT Standard C/S T.001 and COSPAS-SARSAT Standard C/S T.007 standards and documentation from an independent test facility stating that the PLB complies RTCM Standard 11010.2. The information is used by Telecommunications Certification Bodies (TCBs) to determine if the devices meets the necessary international technical standards and insure compliance with applicable rules. If this information were not available, operation of marine safety equipment could be hindered threatening the ability of rescue personnel to locate vessels in distress.

Federal Communications Commission.
Marlene H. Dortch,
Secretary, Office of the Secretary.

[FR Doc. 2017-03752 Filed 2-24-17; 8:45 am]

BILLING CODE 6712-01-P